DEPARTMENT OF HEALTH AND HUMAN SERVICES

National Institutes of Health

National Cancer Institute; Cancellation of Meeting

Notice is hereby given of the cancellation of the National Cancer Institute Special Emphasis Panel, Clinical Assay Development Program (CADP), April 10, 2012, 8 a.m. to 4 p.m., National Institutes of Health, 6001 Executive Boulevard, Room C, Rockville, MD 20852 which was published in the Federal Register on February 29, 2012, 77 FR 12318.

The meeting has been cancelled.

Dated: March 12, 2012.
Jennifer S. Spaeth,
Director, Office of Federal Advisory Committee Policy.

[FR Doc. 2012-6596 Filed 3-16-12; 8:45 am]

BILLING CODE 4140-01-P